DEPARTMENT OF ENERGY

Federal Energy Regulatory Commission

[Docket Nos. EL16-79-000; EL16-80-000; EL16-81-000; EL16-82-000; EL16-83-000]

Armstrong Power, LLC; Calumet Energy Team, LLC; Northeastern Power Company; Pleasants Energy, LLC; Troy Energy, LLC; Notice of Institution of Section 206 Proceeding and Refund Effective Date

On July 5, 2016, the Commission issued an order in Docket Nos. EL16-79-000, EL16-80-000, EL16-81-000, EL16-82-000, and EL16-83-000, pursuant to section 206 of the Federal Power Act (FPA), 16 U.S.C. 824e (2012), instituting an investigation into the justness and reasonableness of Armstrong Power, LLC's, Calumet Energy Team, LLC's, Northeastern Power Company's, Pleasants Energy, LLC's, and Troy Energy, LLC's reactive power rates. Armstrong Power, LLC et. al., 156 FERC ¶ 61,009 (2016).

The refund effective date in Docket No. EL16-79-000, et al., established pursuant to section 206(b) of the FPA, will be the date of publication of this notice in the Federal Register.

Dated: July 6, 2016.
Nathaniel J. Davis, Sr.,
Deputy Secretary.

[FR Doc. 2016-16389 Filed 7-11-16; 8:45 am]

BILLING CODE 6717-01-P